ENVIRONMENTAL PROTECTION AGENCY

[FRL-6535-1]

Notice of Availability: Announcing the availability of a new draft guidance document entitled Screening Level Ecological Risk Assessment Protocol for Hazardous Waste Combustion Facilities

AGENCY: Environmental Protection Agency.

ACTION: Notice of document availability and public comment period.

SUMMARY: The Environmental Protection Agency (“EPA” or “the Agency”) is providing notice that the following draft guidance document Screening Level Ecological Risk Assessment Protocol for Hazardous Waste Combustion Facilities (Peer Review Draft) is available and an 180-day public review period of the document will begin today.

This document contains the Office of Solid Waste's recommended approach for conducting site-specific ecological risk assessments on hazardous waste combustors regulated under the RCRA program. The document includes specific parameters, pathways and algorithms to evaluate both direct and indirect risks to ecological receptors. The goal of this guidance document is to develop a consistent and credible methodology for conducting ecological risk assessments at hazardous waste combustion facilities. The results of the risk assessments will give an understanding of the potential ecological risks associated with emissions from those facilities.

On October 30, 1998, EPA announced in the Federal Register (FR Doc. 98-29157) the availability of this documents' companion document, Human Health Risk Assessment Protocol for Hazardous Waste Combustion Facilities (Peer Review Draft—EPA530-D-98-001A, B & C). OSW recommends that RCRA permitting authorities consider these documents together when conducting risk assessments on hazardous waste combustor emissions. The results of these risk assessments can provide a basis for risk management decisions in the permitting of hazardous waste combustors and help to ensure that the operation of hazardous waste combustion facilities will be protective of human health and the environment.

This document has undergone extensive internal Agency review. It is Agency policy that documents such as this be subject to peer review as well. EPA expects to have the document reviewed by a group of independent scientists in the future. Information regarding the peer review process will be published in a Federal Register notice closer to the date of the review.

All public comments should be received by August 9, 2000, to be considered by the Agency. The public comments will be for the Agency's evaluation only and are not intended to be part of the peer review process. To ensure an efficient public comment review and resolution process, EPA recommends that the comments be supplied in the following format. All comments should be individually identified and a proposed resolution (or action) be recommended. In addition, any supporting information or reference materials which corroborate the comment and or proposed resolution should be furnished as well. All information supplied should be in English or accompanied by an English translation. All comments received from both the public and the peer review will be considered during finalization of this guidance document.

DATES: Public comments on the document Screening Level Ecological Risk Assessment Protocol for Hazardous Waste Combustion Facilities should be received by the docket no later than August 9, 2000.

FOR FURTHER INFORMATION CONTACT: For further information contact the RCRA Hotline at (800) 424-9346 or TDD (800) 553-7672 (hearing impaired). In the Washington, DC metropolitan area, call (703) 412-9810 or TDD (703) 412-3323. For specific questions on implementation of the methods described in this document, please contact your RCRA regulatory authority; for other questions contact Karen Pollard, Office of Solid Waste, 5307W U.S. Environmental Protection Agency, 401 M Street, SW, Washington, DC 20460; phone: (703) 308-3948; e-mail: Pollard.Karen@EPA mail.EPA.gov.

ADDRESSES: Commenters must send the original and two copies of their comments referencing docket number F-1999-SLRA-FFFFF to: RCRA Information Center (RIC), Office of Solid Waste (5305G), U.S. Environmental Protection Agency Headquarters (EPA, HQ), 401 M Street, S.W., Washington, DC 20460. Comments submitted electronically should be identified by the docket number F-1999-SLRA-FFFFF and submitted to: RCRA-docket@epamail.epa.gov. EPA's Office of Solid Waste (OSW) also accepts data on disks in Wordperfect 6.1 file format. EPA is asking prospective commenters to voluntarily submit one additional copy of their comments on labeled personal computer diskettes in ASCII (TEXT) format (with no special characters or any form of encryption) or a word processing format that can be converted to ASCII (TEXT). It is essential to specify on the disk label the word processing software and version/edition as well as the commenter's name. This will allow EPA to convert the comments into one of the word processing formats utilized by the Agency. Please use mailing envelopes designed to physically protect the submitted diskettes. EPA emphasizes that submission of comments on diskettes is not mandatory, nor will it result in any advantage or disadvantage to any commenter. This expedited procedure is in conjunction with the Agency “Paperless Office” campaign.

Commenters should not submit any confidential business information (CBI) electronically. An original and two copies of the CBI must be submitted under separate cover to: Regina Magbie, RCRA CBI Document Control Officer, Office of Solid Waste (5305W), U.S. EPA, 401 M Street S.W., Washington, DC 20460.

Public comment and supporting materials will be made available for viewing from 9 a.m. to 4 p.m., Monday through Friday (except Federal holidays) in the RIC, located at Crystal Gateway One, 1235 Jefferson Davis Highway, First Floor, Arlington, Virginia. To review docket materials, the public must make an appointment by calling (703) 603-9230. The public may copy a maximum of 100 pages from any regulatory docket at no charge. Additional copies cost $0.15 per page. The docket index and notice are available electronically. See the “Supplementary Information” section for information on accessing it.

SUPPLEMENTARY INFORMATION: For paper or CD-ROM copies of the guidance document, please contact the RCRA Information Center (RIC), Office of Solid Waste (5305G), U.S. Environmental Protection Agency Headquarters (EPA, HQ), 401 M Street, S.W., Washington, DC 20460, (703) 603-9230. The document is a three volume set, with document numbers of: EPA530-D-99-001A: Methodologies; EPA530-D-99-001B: Appendices A & B; and EPA530-D-99-001C: Appendices C-H. CD-ROM copies of this document may also be obtained from the RCRA Hotline at (800) 424-9346 or TDD (800) 553-7672 (hearing impaired). In the Washington, DC metropolitan area, call (703) 412-9810 or TDD (703) 412-3323. The document is also available in electronic format on the world wide web at: http://www.epa.gov/epaoswer/hazwaste/combust/riskhtm.

Dated: January 19, 2000.
Elizabeth A. Cotsworth,
Director, Office of Solid Waste.

[FR Doc. 00-3217 Filed 2-10-00; 8:45 am]

BILLING CODE 6560-50-P